DEPARTMENT OF LABOR

Employment and Training Administration

[TA-W-75,036; TA-W-75,036A]

Panasonic Corporation of North America, Business Operations Group, Rolling Meadows, IL; Panasonic Corporation of North America, Financial Services Organization, Rolling Meadows, IL; Amended Certification Regarding Eligibility To Apply for Worker Adjustment Assistance

In accordance with Section 223 of the Trade Act of 1974, as amended (“Act”), 19 U.S.C. 2273, the Department of Labor (Department) issued a Certification of Eligibility to Apply for Worker Adjustment Assistance on April 7, 2011, applicable to workers of Panasonic Corporation of North America, Business Operations Group, Rolling Meadows, Illinois. The workers provide administrative, sales and distribution services. The Notice was published in the Federal Register on April 22, 2011 (76 FR 22731).

At the request of a company official, the Department reviewed the certification for workers of the subject firm.

New information provided by the company shows that Business Operations Group and Financial Services Organization are part of the same administrative subdivision and work in conjunction with one another in the same building, serve the same customer units and both are impacted by the shift in services to India.

Based on these findings, the Department is amending the certification to include employees of Financial Services Organization of Panasonic Corporation of North America, Rolling Meadows, Illinois (TA-W-75,036A).

The intent of the Department's certification is to include all workers of the subject firm who were adversely affected by a shift in services to India.

The amended notice applicable to TA-W-75,036 is hereby issued as follows:

All workers of Panasonic Corporation of North America, Business Operations Group, Rolling Meadows, Illinois (TA-W-75,036) and Panasonic Corporation of North America, Financial Services Organization, Rolling Meadows, Illinois (TA-W-75,036A), who became totally or partially separated from employment on or after November 22, 2009 through April 7, 2013, and all workers in the group threatened with total or partial separation from employment on date of certification through two years from the date of certification, are eligible to apply for adjustment assistance under Chapter 2 of Title II of the Trade Act of 1974, as amended.

Signed in Washington, DC, this 26th day of July 2011.
Del Min Amy Chen,
Certifying Officer, Office of Trade Adjustment Assistance.

[FR Doc. 2011-19580 Filed 8-2-11; 8:45 am]

BILLING CODE 4510-FN-P